AGENCY FOR INTERNATIONAL DEVELOPMENT

Notice of Public Information Collection Requirements Submitted to OMB for Review

SUMMARY: Agency for International Development (USAID) has submitted the following information collection to OMB for review and clearance under the Paperwork Reduction act of 1995, Pub. L. 104-13. Comments regarding this information collection are best assured of having their full effect if received within 30 days of this notification. Comments should be addressed to: Desk Officer for USAID. Office of Information and Regulatory Affairs, Office of Management and Budget (OMB), Washington D.C. 20503. Copies of the information collection and supporting documents may be obtained by calling (202) 712-1365.

SUPPLEMENTARY INFORMATION: OMB Number: OMB 0412-0557.

Form Number: N/A.

Title: Annual Results Report.

Type of Submission: Renewal of information collection.

Purpose: The Annual Results Report provide meaningful results—oriented information to assist Cooperating Sponsors, USAID Missions and USAID's Office of Food for Peace to demonstrate the impact of food aid on food security. The report serves as a important information source during preparation of Fiscal Year annual updates prepared by Cooperating Sponsors, new development activity proposals, Agency Results, Review and Resource Requests, and USAID's annual report to Congress. The Annual Results Report focuses on performance indicators for food aid activity and progress toward achievement of results. The report also includes a summary of anticipated resource requests for the next Fiscal Year.

Annual Reporting Burden:

Respondents: 20.

Total annual responses: 20.

Total annual hours requested: 480 hours.

Dated: March 4, 2003.
Joanne Paskar,
Chief, Information and Records Division, Office of Administrative Services, Bureau for Management.

[FR Doc. 03-5941 Filed 3-11-03; 8:45 am]

BILLING CODE 6116-01-M